DEPARTMENT OF TRANSPORTATION

Federal Aviation Administration

[Docket No. FAA-2019-0781]

Agency Information Collection Activities: Requests for Comments; Clearance of Renewed Approval of Information Collection: Automatic Dependent Surveillance Broadcast (ADS-B) Out Performance Requirements To Support Air Traffic Control (ATC) Service

AGENCY: Federal Aviation Administration (FAA), DOT.

ACTION: Notice and request for comments.

SUMMARY: In accordance with the Paperwork Reduction Act of 1995, FAA invites public comments about our intention to request the Office of Management and Budget (OMB) approval to renew a previously approved information collection. The final rule titles “Automatic Dependent Surveillance Broadcast (ADS-B) Equipage Mandate to Support Air Traffic Control Service,” requires performance requirements for certain avionics equipment on aircraft operating in specified classes of airspace within the United States National Airspace System (NAS). The rule facilitates the use of ADS-B for aircraft surveillance by FAA air traffic controllers to accommodate the expected increase in demand for air transportation.

DATES: Written comments should be submitted by December 16, 2019.

ADDRESSES: Please send written comments:

By Electronic Docket: www.regulations.gov (Enter docket number into search field)

By mail: Send comments to FAA at the following address: Mr. David Gray, Group Manager, Surveillance and Broadcast Services, AJM-42, Air Traffic Organization, Federal Aviation Administration, 600 Independence Ave. SW, Wilbur Wright Building, Washington, DC 20597

By fax: +1.202.267.1277 (Attention: Mr. David Gray, Group Manager, Surveillance and Broadcast Services, AJM-42, Air Traffic Organization, Federal Aviation Administration

FOR FURTHER INFORMATION CONTACT: For technical questions concerning this action, contact Mr. Bryan Robles, Surveillance and Broadcast Services, Air Traffic Organization, Federal Aviation Administration at bryan.robles@faa.gov or +1.202-267-0122.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0728.

Title: Automatic Dependent Surveillance—Broadcast (ADS-B) Out Performance Requirements To Support Air Traffic control (ATC) Service.

Form Numbers: None.

Type of Review: Renewal of an information collection.

Background: 14 CFR part 91 includes requirements for certain avionics equipment on aircraft operating in specified classes of airspace within the United States National Airspace System (NAS). After January 1, 2020, unless otherwise authorized by ATC, all aircraft operating in the airspace identified in § 91.225 must comply with the ADS-B Out equipage and performance requirements in §§ 91.225 and 91.227. This collection supports the surveillance information needs of the FAA by requiring avionics equipment that continuously transmits aircraft information through the 1090 megahertz (MHz) extended squitter (ES) broadcast link or the Universal Access Transceiver (UAT) broadcast link to be received by the FAA, via automation, for use in providing air traffic surveillance services. ADS-B equipment will continuously transmit aircraft information in “real time” to FAA ground receivers. ADS-B Out moves air traffic control from a radar-based system to a satellite-derived aircraft location system with capabilities for reducing lateral and longitudinal separation standards. Old information is overwritten on a continuous basis when provided for air traffic surveillance services. As part of the renewal process, the Office of Management and Budget (OMB) requests an estimate of the burden imposed to the public for the collection of information. However, in this case, ADS-B Out information is collected electronically, without input by a human operator. Subsequently a 1-hour burden is submitted as a placeholder to allow entry in OMB's burden inventory.

Respondents: Approximately 100,000-160,000 operators.

Frequency: Information is collected automatically through ADS-B Out transmissions.

Estimated Average Burden per Response: 1 hour (placeholder).

Estimated Total Annual Burden: 1 hour (placeholder).

Issued in Washington, DC, on October 9, 2019.
David E. Gray,
Group Manager, Surveillance and Broadcast Services (AJM-42), Program Management Office, Air Traffic Organization, Federal Aviation Administration.

[FR Doc. 2019-22557 Filed 10-15-19; 8:45 am]

BILLING CODE 4910-13-P